ENVIRONMENTAL PROTECTION AGENCY

40 CFR Part 52

[EPA-R06-OAR-2007-0314; FRL-9479-9]

Approval and Promulgation of Implementation Plans; Oklahoma; Interstate Transport of Pollution

AGENCY: Environmental Protection Agency (EPA).

ACTION: Proposed rule.

SUMMARY: EPA is proposing to take action on portions of State Implementation Plan (SIP) revisions submitted by the State of Oklahoma to address Clean Air Act requirements that prohibit air emissions which will contribute significantly to nonattainment in, or interfere with maintenance by, any other State for the 1997 8-hour ozone National Ambient Air Quality Standards (NAAQS or standards), the 1997 fine particulate matter (PM2.5) NAAQS and the 2006 24-hour PM2.5 NAAQS. EPA is basing these proposed actions on the final determinations concluded within the Cross State Air Pollution Rule (CSAPR or Transport Rule) and proposed determination within the Supplemental Notice of Proposed Rulemaking (SNPR). EPA is proposing to disapprove, or in the alternative, approve the portion of the submittal demonstrating Oklahoma does not interfere with maintenance of the ozone NAAQS in other states. EPA intends to finalize approval or disapproval based on its final determination for the SNPR regarding Oklahoma for the ozone NAAQS. EPA is also proposing to approve the portion of the submittal demonstrating Oklahoma does not contribute significantly to nonattainment of the ozone NAAQS in other states. Finally, EPA is proposing to approve the portions of the submittals addressing Oklahoma's impacts for the PM2.5 NAAQS in other states. This action is being taken under section 110 of the CAA.

DATES: Written comments must be received on or before November 16, 2011.

ADDRESSES: Submit your comments, identified by Docket No. EPA-R06-OAR-2007-0314, by one of the following methods:

• Federal e-Rulemaking Portal: http://www.regulations.gov.

• Follow the online instructions for submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays, and not on legal holidays. Special arrangements should be made for deliveries of boxed information.

Instructions: Direct your comments to Docket No. EPA-R06-OAR-2007-0314. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The state submittal is also available for public inspection during official business hours, by appointment, at the Oklahoma Department of Environmental Quality, 707 North Robinson, P.O. Box 1677, Oklahoma City, Oklahoma 73101-1677.

FOR FURTHER INFORMATION CONTACT: Carl Young, Air Planning Section (6PD-L), Environmental Protection Agency, Region 6, 1445 Ross Avenue, Suite 700, Dallas, Texas 75202-2733, telephone (214) 665-6645; e-mail address young.carl@epa.gov.

SUPPLEMENTARY INFORMATION: Throughout this document wherever “we,” “us,” or “our” is used, we mean the EPA.

Outline

I. Background

A. Clean Air Act Background

B. Oklahoma's Submittals

C. EPA's Analysis and Actions for the Cross State Air Pollution Rule

II. Proposed Action

A. Disapproval or Approval of the Submittal for the Interference With Maintenance Requirement for the 1997 Ozone NAAQS

B. Approval of the Submittal for the Significant Contribution to Nonattainment Requirement for the 1997 Ozone NAAQS

C. Approval of the Submittals for the 1997 and 2006 PM2.5 NAAQS

III. Statutory and Executive Order Reviews

I. Background

A. Clean Air Act Background

Section 110(a) of the Clean Air Act (CAA) requires each state to develop a state implementation plan (SIP) that provides for the implementation, maintenance, and enforcement of the national ambient air quality standards (NAAQS). We establish NAAQS under section 109 of the CAA. Currently, the NAAQS address six criteria pollutants: Carbon monoxide, nitrogen dioxide, ozone, lead, particulate matter, and sulfur dioxide.

SIPs can be extensive, containing state regulations or other enforceable measures and various types of supporting information, such as emissions inventories, monitoring networks, and modeling demonstrations. The “good neighbor” provisions in section 110(a)(2)(D)(i) require each SIP to prohibit emissions that adversely affect another State in the ways contemplated in the statute. Section 110(a)(2)(D)(i) contains four distinct requirements related to the impacts of interstate transport. The SIP must prevent sources in the State from emitting pollutants in amounts which will: (1) Contribute significantly to nonattainment of the NAAQS in other States; (2) interfere with maintenance of the NAAQS in other States; (3) interfere with provisions to prevent significant deterioration of air quality in other States; or (4) interfere with efforts to protect visibility in other States. It should be noted that this proposed rulemaking action addresses only those portions of Oklahoma's May 1, 2007, and April 5, 2011, submittals, which address the 110(a)(2)(D)(i)(I) requirements relating to significant contribution to nonattainment or interference with maintenance in another State with respect to the 1997 ozone and 1997 and 2006 PM2.5 NAAQS. At this time, EPA is not taking action on any additional requirements of section 110(a)(2)(D)(i) or on any other portions of Oklahoma's May 1, 2007, and April 5, 2011, submittals.¹

¹ Previously we took the following actions on the May 1, 2007, Oklahoma submittal for the 1997 ozone and PM2.5 NAAQS: (1) We approved the portion demonstrating Oklahoma emissions do not interfere with prevention of significant deterioration measures in any other state (November 26, 2010, 75 FR 72695); (2) we proposed to partially approve and partially disapprove the portion demonstrating that Oklahoma emissions do not interfere with visibility protection measures required in any other state (March 22, 2011, 76 FR 16168).

Within 3 years of our promulgation of a new or revised NAAQS, States are required to update or revise the SIP and submit the revisions to us for approval and incorporation into the Federally enforceable SIP (CAA 110(a)(1)). These plans should address, among other things the requirements of Section 110(a)(2)(D)(i). In 1997, we revised the NAAQS for ozone and particulate matter. For ozone we established new 8-hour standards of 0.08 parts per million (62 FR 38856). For particulate matter we established new annual average and 24-hour standards for fine particles, using particulate matter less than 2.5 microns (PM2.5) as the indicator (62 FR 38652). In 2006, we revised the PM2.5 NAAQS by decreasing the level of the 24-hour standard from 65 micrograms per cubic meter (μg/m³) to 35 μg/m³. We retained the annual PM2.5 NAAQS of 15 μg/m³. This action is being taken in response to the promulgation of these NAAQS.

B. Oklahoma's Submittals

On May 1, 2007, the State of Oklahoma submitted a SIP revision to address the requirements of CAA section 110(a)(2)(D)(i)(I) for the 1997 ozone and PM2.5 NAAQS. On December 5, 2007, the State submitted supplemental information.² On April 5, 2011, the State submitted a letter certifying that their SIP meets the requirements of CAA section 110(a)(2), including 110(a)(2)(D)(i)(I) for the 2006 PM2.5 NAAQS. The submittals document the State's assessments that Oklahoma emissions will not contribute significantly to nonattainment, or interfere with maintenance, in any other State for the 1997 ozone, 1997 PM2.5 and 2006 PM2.5 NAAQS. The submittals are available electronically through the http://www.regulations.gov Web site (Docket No. EPA-R06-OAR-2007-0314).

² The supplemental information provided an assessment of Oklahoma's impact on Kenosha County, Wisconsin, and Cook County, Illinois. Kenosha County, Wisconsin is designated as nonattainment for the 1997 ozone NAAQS. Cook County, Illinois is designated as nonattainment for the 1997 annual PM2.5 NAAQS.

Consistent with EPA guidance at the time and EPA's approach in the Clean Air Interstate Rule (CAIR), the State's May 1, 2007, submittal focused primarily on whether emissions from Oklahoma sources significantly contribute to nonattainment of the 1997 ozone and PM2.5 NAAQS in other states.³ The State did not evaluate whether Oklahoma emissions interfere with maintenance of these NAAQS in other states separately from significant contribution to nonattainment in other states. Instead, the state presumed that if Oklahoma sources were not significantly contributing to violations of the NAAQS in other states, then no further specific evaluation was necessary for purposes of the interfere with maintenance element of section 110(a)(2)(D). However, CAIR was remanded to EPA, in part because the court found that EPA had not correctly addressed whether emissions from sources in a state interfere with maintenance of the standards in other states.⁴ Therefore, EPA must evaluate the May 1, 2007, Oklahoma submittal in light of the decision of the court.

³ On August 15, 2006, we issued our “Guidance for State Implementation Plan (SIP) Submissions to Meet Current Outstanding Obligations Under Section 110(a)(2)(D)(i) for the 8-Hour Ozone and PM2.5 National Ambient Air Quality Standards”.

⁴ For more discussion on the court remand of CAIR please see our August 8, 2011, CSAPR (76 FR 48208).

C. EPA Analyses and Actions for the Cross State Air Pollution Rule

On August 2, 2010, we proposed the “Cross State Air Pollution Rule” (CSAPR or Transport Rule) for State emissions that contribute significantly to nonattainment in, or interfere with maintenance by, downwind states for the 1997 ozone, 1997 PM2.5 and 2006 PM2.5 NAAQS (75 FR 45210). The proposal responded to the court remand of CAIR in part by independently analyzing whether a state's emissions interfere with maintenance of the 1997 ozone, 1997 PM2.5 and 2006 PM2.5 NAAQS. We proposed to include Oklahoma in the CSAPR for the 1997 ozone NAAQS. Our analysis for the proposal identified Oklahoma emissions as significantly contributing to nonattainment and interfering with maintenance of the 1997 ozone NAAQS in the Dallas/Fort Worth, Texas area. Furthermore, our analysis in the proposed CSAPR also found that Oklahoma emissions did not significantly contribute to nonattainment or interfere with maintenance of the 1997 and 2006 PM2.5 NAAQS. The comment period for this proposed rule closed on October 1, 2010.

In the final CSAPR, published in the Federal Register on August 8, 2011, EPA made a final determination that Oklahoma does not significantly contribute to nonattainment and interfere with maintenance with respect to the 1997 and 2006 PM2.5 NAAQS in other states (76 FR 48208). However, EPA's analysis in the final CSAPR also demonstrated that six states, including Oklahoma, should be required to reduce ozone-season NOx emissions to reduce ozone impacts at certain locations identified as maintenance receptors that were not identified in the modeling conducted for the proposal. This analysis conducted for the final CSAPR found Oklahoma emissions interfering with maintenance of the 1997 ozone NAAQS in Allegan County, Michigan, but not significantly contributing to nonattainment of the 1997 ozone NAAQS in any other state. In the proposed and final CSAPR, EPA explicitly gave independent meaning to the “interfere with maintenance” prong of section 110(a)(2)(D)(i)(I) by evaluating contributions to identified maintenance receptors that may have difficulty maintaining the NAAQS in the future. EPA found in the final CSAPR analysis that Oklahoma emissions contribute to maintenance problems at the Allegan County, Michigan maintenance receptor, and absent the Allegan County maintenance receptor Oklahoma would not be covered by the CSAPR ozone-season program. Based on this analysis, we published a supplemental notice of proposed rulemaking (SNPR) to implement the ozone-season NOx program in the final CSAPR as the FIP for Oklahoma to address emissions identified as interfering with maintenance with respect to the 1997 ozone NAAQS (July 11, 2011, 76 FR 40662). In the SNPR, EPA took comment on whether there were errors in the Agency's application of the CSAPR methodologies with respect to Oklahoma and the 1997 ozone NAAQS, and did not take comment on any aspect of the final CSAPR. The comment period for this rule closed on August 22, 2011.

The methodology used to analyze the impact of Oklahoma emissions with respect to the 1997 ozone NAAQS is described in detail in the preamble to the final CSAPR and in the Technical Support Documents entitled “Air Quality Modeling Final Rule TSD” and “Significant Contribution and State Emission Budgets Final Rule TSD”. These documents can be found in the electronic docket for the CSAPR and are available through the http://www.regulations.gov Web site (Docket No. EPA-HQ-OAR-2009-0491).

In this notice, EPA is proposing to take action on the basis of determinations that have been or will be made in other final agency actions that were taken after providing a full opportunity for notice and comment. Therefore, in this notice, EPA is taking comment only on its conclusions that the determinations with respect to Oklahoma made in the final CSAPR and the determination with respect to Oklahoma that will be made in final action on the SNPR provide a basis for the actions proposed in this notice. EPA provided an opportunity for public comment, in the SNPR, on its proposed determination that Oklahoma interferes with maintenance of the 1997 ozone NAAQS because it is linked to an ozone maintenance receptor identified in the modeling for the final CSAPR. EPA is not taking additional comment on that proposed determination. EPA also provided an ample opportunity to comment, during the CSAPR rulemaking, on the determinations made in the final CSAPR on Oklahoma's significant contribution to nonattainment or interference with maintenance with respect to the 1997 and the 2006 PM2.5 NAAQS. EPA is not taking comment on these or any other determinations made in the final CSAPR, or reopening any aspect of CSAPR or the SNPR for public comment. EPA is also not taking comment on any aspect of the final CSAPR, including the methodology used to identify maintenance receptors or the methodology used to identify Oklahoma's specific contribution or interference with maintenance. EPA received numerous comments on the proposed CSAPR and on the associated Notices of Data Availability, and the SNPR, and considered, (or, in the case of the SNPR, is considering), all comments received during the comment periods for these actions.

II. Proposed Action

In this action, EPA is taking comment only on its conclusions that the final CSAPR and the SNPR provide a basis for proposing: (1) Disapproval, and in the alternative proposing approval, for the portion of the Oklahoma SIP revision addressing the interference with maintenance requirement for the 1997 ozone NAAQS; (2) approval of the portion of the Oklahoma SIP revision addressing the significant contribution to nonattainment requirements for the 1997 ozone NAAQS; and (3) approval of the portion of the Oklahoma SIP revision that addresses the significant contribution to nonattainment or interference with maintenance requirements for the 1997 PM2.5 NAAQS and the 2006 PM2.5 NAAQS.

A. Disapproval or Approval of the Submittal for the Interference With Maintenance Requirement for the 1997 Ozone NAAQS

We are proposing to disapprove and, in the alternative, proposing to approve the portion of the SIP revision submitted on May 1, 2007, to address the interference with maintenance requirement for the 1997 8-hour ozone NAAQS. We intend that our final action (disapproval or approval) will be based on final action for Oklahoma in the supplemental Cross State Air Pollution rule discussed above. We intend to disapprove this portion of the SIP revision if, in the final supplemental CASPR rule, we finalize our determination that Oklahoma emissions are interfering with maintenance of the 1997 ozone NAAQS. EPA is in the course of reviewing and preparing responses to the comments submitted on the SNPR regarding EPA's modeling and the adjustments made to its technical analyses for the final CSAPR. If this review alternatively indicates that Oklahoma should not be subject to and covered by the final supplemental rule, EPA will take final action to approve this portion of Oklahoma's SIP revision for the transport element of 110(a)(2)(D)(i)(I) that Oklahoma emissions are not interfering with maintenance of the 1997 ozone NAAQS. As discussed previously, we are not reopening for comment the analyses done for the final CSAPR nor the SNPR.

B. Approval of the Submittal for the Significant Contribution to Nonattainment Requirement for the 1997 Ozone NAAQS

We are proposing to approve the portion of the SIP revision submitted on May 1, 2007, to address the significant contribution to nonattainment requirement for the 1997 8-hour ozone NAAQS. Our proposal is based on our determination concluded within the final CSAPR that Oklahoma emissions do not contribute significantly to nonattainment of the 1997 ozone NAAQS. As discussed previously, we are not reopening for comment the analyses done for the final CSAPR nor the SNPR.

C. Approval of the Submittals for the 1997 and 2006 PM2.5 NAAQS

We are proposing to approve the portions of the SIP revisions submitted on May 1, 2007, and April 5, 2011, to address the significant contribution to nonattainment or interference with maintenance requirements for the 1997 PM2.5 NAAQS and the 2006 PM2.5 NAAQS. Our proposal is based on our determination concluded within the final Cross State Air Pollution rule that Oklahoma emissions do not contribute significantly to nonattainment, or interfere with maintenance for the 1997 PM2.5 NAAQS and the 2006 PM2.5 NAAQS. As discussed previously, we are not reopening for comment the analyses done for the final CSAPR nor the SNPR.

III. Statutory and Executive Order Reviews

Under the CAA, the Administrator is required to approve a SIP submission that complies with the provisions of the Act and applicable Federal regulations and disapprove. 42 U.S.C. 7410(k); 40 CFR 52.02(a). Thus, in reviewing SIP submissions, EPA's role is to act on state law as meeting Federal requirements and does not impose additional requirements beyond those imposed by state law.

A. Executive Order 12866: Regulatory Planning and Review and Executive Order 13563: Improving Regulation and Regulatory Review

This proposed action is not a “significant regulatory action” under the terms of Executive Order 12866 (58 FR 51735, October 4, 1993) and is therefore not subject to review under Executive Orders 12866 and 13563 (76 FR 3821, January 21, 2011).

B. Paperwork Reduction Act

This proposed action does not impose an information collection burden under the provisions of the Paperwork Reduction Act, 44 U.S.C. 3501 et seq, because this proposed SIP action under section 110 of the CAA will not in-and-of itself create any new information collection burdens but simply approves or disapproves certain State requirements for inclusion into the SIP. Burden is defined at 5 CFR 1320.3(b).

C. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions. For purposes of assessing the impacts of today's rule on small entities, small entity is defined as: (1) A small business as defined by the Small Business Administration's (SBA) regulations at 13 CFR 121.201; (2) a small governmental jurisdiction that is a government of a city, county, town, school district or special district with a population of less than 50,000; and (3) a small organization that is any not-for-profit enterprise which is independently owned and operated and is not dominant in its field.

After considering the economic impacts of today's proposed rule on small entities, I certify that this action will not have a significant impact on a substantial number of small entities. This rule does not impose any requirements or create impacts on small entities. This proposed SIP action under section 110 of the CAA will not in-and-of itself create any new requirements but simply approves or disapproves certain State requirements for inclusion into the SIP. Accordingly, it affords no opportunity for EPA to fashion for small entities less burdensome compliance or reporting requirements or timetables or exemptions from all or part of the rule. The fact that the CAA prescribes that various consequences (e.g., emission limitations) may or will flow from this action does not mean that EPA either can or must conduct a regulatory flexibility analysis for this action. Therefore, this action will not have a significant economic impact on a substantial number of small entities.

We continue to be interested in the potential impacts of this proposed rule on small entities and welcome comments on issues related to such impacts.

D. Unfunded Mandates Reform Act

This action contains no Federal mandates under the provisions of Title II of the Unfunded Mandates Reform Act of 1995 (UMRA), 2 U.S.C. 1531-1538 for State, local, or tribal governments or the private sector. EPA has determined that the proposed disapproval action does not include a Federal mandate that may result in estimated costs of $100 million or more to either State, local, or tribal governments in the aggregate, or to the private sector. This action proposes to approve or disapprove pre-existing requirements under State or local law, and imposes no new requirements. Accordingly, no additional costs to State, local, or tribal governments, or to the private sector, result from this action.

E. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed action does not have federalism implications. It will not have substantial direct effects on the States, on the relationship between the national government and the States, or on the distribution of power and responsibilities among the various levels of government, as specified in Executive Order 13132, because it merely approves or disapproves certain State requirements for inclusion into the SIP and does not alter the relationship or the distribution of power and responsibilities established in the CAA. Thus, Executive Order 13132 does not apply to this action.

F. Executive Order 13175, Coordination With Indian Tribal Governments

This proposed action does not have tribal implications, as specified in Executive Order 13175 (65 FR 67249, November 9, 2000), because the SIP submittals EPA is proposing to approve or disapprove would not apply in Indian country located in the state, and EPA notes that it will not impose substantial direct costs on tribal governments or preempt tribal law. Thus, Executive Order 13175 does not apply to this action. Consistent with EPA policy, EPA nonetheless is offering consultation to Tribes regarding this rulemaking action. EPA will respond to relevant comments in the final rulemaking action.

G. Executive Order 13045, Protection of Children From Environmental Health Risks and Safety Risks

EPA interprets Executive Order 13045 (62 FR 19885, April 23, 1997) as applying only to those regulatory actions that concern health or safety risks, such that the analysis required under section 5-501 of the Executive Order has the potential to influence the regulation. This proposed action is not subject to Executive Order 13045 because it is not an economically significant regulatory action based on health or safety risks subject to Executive Order 13045 (62 FR 19885, April 23, 1997). This proposed SIP action under section 110 of the CAA will not in-and-of itself create any new regulations but simply approves or disapproves certain State requirements for inclusion into the SIP.

H. Executive Order 13211, Actions That Significantly Affect Energy Supply, Distribution or Use

This proposed action is not subject to Executive Order 13211 (66 FR 28355, May 22, 2001) because it is not a significant regulatory action under Executive Order 12866.

I. National Technology Transfer and Advancement Act

Section 12(d) of the National Technology Transfer and Advancement Act of 1995 (“NTTAA”), Public Law 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

The EPA believes that this proposed action is not subject to requirements of Section 12(d) of NTTAA because application of those requirements would be inconsistent with the CAA.

J. Executive Order 12898: Federal Actions To Address Environmental Justice in Minority Populations and Low-Income Populations

Executive Order 12898 (59 FR 7629 (Feb. 16, 1994)) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

EPA lacks the discretionary authority to address environmental justice in this proposed action. In reviewing SIP submissions, EPA's role is to approve or disapprove state choices, based on the criteria of the CAA. Accordingly, this action merely proposes to approve or disapprove certain State requirements for inclusion into the SIP under section 110 of the CAA and will not in-and-of itself create any new requirements. Accordingly, it does not provide EPA with the discretionary authority to address, as appropriate, disproportionate human health or environmental effects, using practicable and legally permissible methods, under Executive Order 12898.

List of Subjects in 40 CFR Part 52

Environmental protection, Air pollution control, Incorporation by reference, Intergovernmental relations, Nitrogen oxides, Ozone, Particulate matter, Sulfur dioxide.

Authority: 42 U.S.C. 7401 et seq.

Dated: October 6, 2011.
Al Armendariz,
Regional Administrator, Region 6.

[FR Doc. 2011-26763 Filed 10-14-11; 8:45 am]

BILLING CODE 6560-50-P